SMALL BUSINESS ADMINISTRATION

Reporting and Recordkeeping Requirements Under OMB Review

AGENCY: Small Business Administration.

ACTION: 30-Day notice.

SUMMARY: The Small Business Administration (SBA) is seeking approval from the Office of Management and Budget (OMB) for the information collection described below. In accordance with the Paperwork Reduction Act and OMB procedures, SBA is publishing this notice to allow all interested member of the public an additional 30 days to provide comments on the proposed collection of information.

DATES: Submit comments on or before May 5, 2021.

ADDRESSES: Written comments and recommendations for this information collection request should be sent within 30 days of publication of this notice to www.reginfo.gov/public/do/PRAMain. Find this particular information collection request by selecting “Small Business Administration”; “Currently Under Review,” then select the “Only Show ICR for Public Comment” checkbox. This information collection can be identified by title and/or OMB Control Number.

FOR FURTHER INFORMATION CONTACT: You may obtain a copy of the information collection and supporting documents from the Agency Clearance Office at Curtis.Rich@sba.gov; (202) 205-7030, or from www.reginfo.gov/public/do/PRAMain.

SUPPLEMENTARY INFORMATION: For SBA financial assistance programs, SBA Form 413 Personal Financial Statement (PFS) collects information regarding the assets and liabilities of certain owners, officers and guarantors of the small business applicant benefiting from such assistance and is used when analyzing the applicant's repayment abilities or creditworthiness. SBA's Surety Bond Guaranty Program uses the Form 413 PFS information during the claim recovery process. The information is also collected from applicants and participants in SBA's 8(a)/BD and Women-Owned Small Business (WOSB) Program certification process to determine whether they meet the economic disadvantage requirements of the program.

SBA currently has four versions of the Form 413 PFS. The Agency plans to consolidate and streamline these into one Form 413 which will be used across the various program offices. SBA plans to expand and clarify the instructions for the Form 413 to ensure the public will be aware of the specific submission process for each program office. Lastly, the Form 413 may undergo significant formatting changes to make it easier to address mandatory Federal government 508 accessibility compliance.

Solicitation of Public Comments

Comments may be submitted on (a) whether the collection of information is necessary for the agency to properly perform its functions; (b) whether the burden estimates are accurate; (c) whether there are ways to minimize the burden, including through the use of automated techniques or other forms of information technology; and (d) whether there are ways to enhance the quality, utility, and clarity of the information.

OMB Control Number: 3245-0188.

Title: Personal Financial Statement.

SBA Form Number: SBA Forms 413 7(a)/504/SBG, 413 Disaster, 413 8(a) and 413 WOSB.

Description of Respondents: 7(a) and 504 loan Program applicants, Surety Bond Program recovery claimants, Disaster Loan Program applicants excluding sole proprietors and individuals, 8(a)/BD and WOSB Program applicants.

Estimated Annual Responses: 371,108.

Estimated Annual Hour Burden: 391,812.

Curtis Rich,
Management Analyst.

[FR Doc. 2021-06895 Filed 4-2-21; 8:45 am]

BILLING CODE 8026-03-P